ENVIRONMENTAL PROTECTION AGENCY

40 CFR part 52

[EPA-R05-OAR-2010-0034; FRL-9276-1]

Approval and Promulgation of Air Quality Implementation Plans; Illinois; Missouri; Saint Louis Nonattainment Area; Determination of Attainment of the Fine Particle Standard

AGENCY: Environmental Protection Agency (EPA).

ACTION: Proposed rule.

SUMMARY: The Environmental Protection Agency (EPA) is proposing to determine that the Saint Louis PM2.5 nonattainment area in Illinois and Missouri has attained the 1997 annual fine particle (PM2.5) National Ambient Air Quality Standard (NAAQS). This proposed determination of attainment is based upon complete, quality assured, quality controlled, and certified ambient air monitoring data, from the 2007-2009 monitoring period, which show that the Saint Louis area has monitored attainment of the 1997 annual PM2.5 NAAQS. EPA also evaluated incomplete data from this period from other monitors in the area, as well as preliminary data available to date for 2010. EPA believes these data support the determination that the area has attained the 1997 annual PM2.5 NAAQS. If this proposed determination is made final, the requirements for this area to submit an attainment demonstration, associated reasonably available control measures (RACM) to include reasonably available control technology (RACT), a reasonable further progress plan, contingency measures, and other planning State Implementation Plans (SIPs) revisions related to attainment of the 1997 annual PM2.5 NAAQS shall be suspended for so long as the area continues to attain the 1997 annual PM2.5 NAAQS.

EPA's determination that this area has attained the 1997 annual PM2.5 NAAQS is not equivalent to redesignating the area to attainment. This action does not constitute a redesignation to attainment under section 107(d)(3) of the Clean Air Act (CAA) because the States of Missouri and Illinois have not yet submitted, and EPA has not yet approved, a maintenance plan for the area as required under that section and section 175A of the Act, nor has EPA promulgated a determination that the area has met other requirements for redesignation. The designation status of the area will remain nonattainment for the 1997 annual PM2.5 NAAQS until such time as EPA determines that this area meets the CAA requirements for redesignation to attainment.

DATES: Comments must be received on or before April 6, 2011.

ADDRESSES: Submit your comments, identified by Docket ID No. EPA-R05-OAR-2010-0034, by one of the following methods:

1. http://www.regulations.gov: Follow the on-line instructions for submitting comments.

2. E-mail: aburano.douglas@epa.gov.

3. Fax: (312) 408-2279.

4. Mail: Douglas Aburano, Chief, Control Strategies Section, Air Programs Branch (AR-18J), U.S. Environmental Protection Agency, 77 West Jackson Boulevard, Chicago, Illinois 60604.

5. Hand Delivery: Douglas Aburano, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0034. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov. You may also contact Tracey Casburn, Air Planning and Development Branch, Environmental Protection Agency, Region 7, 901 North Fifth Street, Kansas City, Kansas 66101, (913) 551-7016, casburn.tracey@epa.gov.

SUPPLEMENTARY INFORMATION: Throughout this document whenever “we,” “us,” or “our” is used, we mean EPA. This supplementary information section is arranged as follows:

I. What action is EPA proposing?

II. What is the background of this action?

III. What is EPA's analysis of the relevant air quality data?

IV. What are the effects of this action?

V. Statutory and Executive Order Reviews

I. What action is EPA proposing?

The EPA is proposing to determine that the Saint Louis PM2.5 nonattainment area in the States of Missouri and Illinois has attained the 1997 annual PM2.5 NAAQS. The proposed determination is based upon complete, quality assured, quality controlled, and certified ambient air monitoring data from the 2007-2009 monitoring period which show that the Saint Louis area has monitored attainment of the 1997 annual PM2.5 NAAQS. Additional data from area monitors with incomplete data for this period (due for example to monitor closure) and also uncertified data available to date for 2010 support this determination.

II. What is the background for this action?

On July 18, 1997 (62 FR 36852), EPA established a health-based PM2.5 NAAQS at 15.0 micrograms per cubic meter (μg/m³) based on a 3-year average of annual mean PM2.5 concentrations, and a 24-hour standard of 65 μg/m³ based on a 3-year average of the 98th percentile of 24-hour concentrations.

EPA established the standards based on significant evidence and numerous health studies demonstrating that serious health effects are associated with exposures to particulate matter. The process for designating areas following promulgation of a new or revised NAAQS is contained in section 107(d)(1) of the CAA, 42 U.S.C. 7406(d)(1). EPA and State air quality agencies generally initiated the monitoring process for the 1997 PM2.5 NAAQS in 1999, and implemented a full network of air quality monitors by January 2001.

On January 5, 2005, in the Federal Register (70 FR 944), EPA published its air quality designations and classifications for the 1997 PM2.5 NAAQS based upon air quality monitoring data from those monitors for calendar years 2001-2003. EPA designated 39 areas as nonattainment for the 1997 annual PM2.5 NAAQS including the bi-state Saint Louis area (see 40 CFR part 81). These designations became effective on April 5, 2005. The Missouri portion of the Saint Louis PM2.5 nonattainment area includes the counties of Franklin, Jefferson, Saint Charles, Saint Louis, and the City of Saint Louis. The Illinois portion of the Saint Louis PM2.5 nonattainment area includes the counties of Madison, Monroe, Randolph (Baldwin Township only) and Saint Clair. See 40 CFR 81.314 (Illinois) and 40 CFR 81.326 (Missouri).

In 2006, after thorough review of the 1997 PM standards, EPA retained the 1997 PM2.5 NAAQS at 15.0 μg/m³ based on a 3-year average of annual mean PM2.5 concentrations, and promulgated a 24-hour standard of 35 μg/m³ based on a 3-year average of the 98th percentile of 24-hour concentrations (the 2006 24-hour standard). On November 13, 2009, EPA designated the Saint Louis area as attaining the 2006 24-hour standard (74 FR 58688). In that action, EPA also clarified the designations for the NAAQS promulgated in 1997, stating that the Saint Louis area remained designated nonattainment for the 1997 annual PM2.5 standard, but was attainment for the 1997 24-hour standard. Thus today's action does not address attainment of either the 1997 or the 2006 24-hour standards.

In response to legal challenges of the annual standard promulgated in 2006, the U.S. Court of Appeals for the District of Columbia Circuit (D.C. Circuit) remanded this standard to EPA for further consideration. See American Farm Bureau Federation and National Pork Producers Council, et al. v. EPA, 559 F.3d 512 (D.C. Cir. 2009). EPA notes, however, that since the 1997 and 2006 annual standards are essentially identical, attainment of the 1997 annual standard would also indicate attainment of the remanded 2006 annual standard.

On April 25, 2007 (72 FR 20664), the EPA promulgated its PM2.5 implementation rule, codified at 40 CFR part 51, subpart Z, in which the EPA provided guidance for state and tribal plans to implement the 1997 annual PM2.5 NAAQS. This rule, at 40 CFR 51.1004(c), establishes certain regulatory consequences of a determination of attainment of the standard.

III. What is EPA's analysis of the relevant air quality data?

Today's rulemaking assesses whether the Saint Louis area is attaining the 1997 annual PM2.5 standard. Under EPA's regulations at 40 CFR 50.7, the annual primary and secondary PM2.5 standards are met when the annual arithmetic mean concentration, as determined in accordance with 40 CFR part 50, Appendix N, is less than or equal to 15.0 μg/m³ at all relevant monitoring sites in the area.

The EPA has reviewed the ambient air quality monitoring data in the Saint Louis area for PM2.5, consistent with the requirements contained at 40 CFR part 50. EPA's review focused on data recorded in the EPA Air Quality System (AQS) database for the Saint Louis PM2.5 nonattainment area from 2007 to 2009, and supplementally considered data recorded before and after that period.

Table 1 shows the 2007 to 2009 design values (i.e., the 3-year average of annual mean PM2.5 concentrations) for the 1997 annual PM2.5 NAAQs for the Saint Louis PM2.5 nonattainment area monitors with complete data for that period. All data values are expressed in micrograms per meter cubed.

Table 1—Annual PM2.5 Design Values for Saint Louis Area Monitors With Complete Data for 2007 to 2009
State | County | Monitor | Monitoring site name | Annual design value 2007-2009
IL | Madison | 17-119-1007 | 23rd and Madison | 14.1
|  | 17-119-2009 | 1700 Annex St | 12.5
|  | 17-119-3007 | 54 N. Walcott | 12.5
| Randolph | 17-157-0001 |  | 11.4
| Saint Clair | 17-163-0010 | 13th and Tudor | 13.3
|  | 17-163-4001 | 1500 Caseyville Ave | 12.5
MO | City of Saint Louis | 29-510-0007 | Broadway | 12.8
|  | 29-510-0085 | Blair Street | 12.7

As Table 1 shows, there were eight monitoring sites with complete data for 2007 to 2009. Data are considered to be sufficient for comparison to the NAAQS if three consecutive complete years of data exist. A complete year of air quality data comprises four calendar quarters, with each quarter containing data from at least 75% of the scheduled sampling days. These eight monitoring sites with complete data provide an adequate basis for EPA to determine whether the area has attained the NAAQS. See 40 CFR part 58, Appendix D for network design criteria.

The EPA concludes that the Saint Louis area has attained the 1997 annual PM2.5 NAAQS based on its evaluation of complete quality assured data from the relevant monitoring sites for the 2007-2009 monitoring period.

Incomplete data from additional monitoring sites in the area also support EPA's determination that area attains the 1997 annual PM2.5 NAAQS. A number of additional monitors have recorded data that are not considered as complete for the three-year 2007-2009 monitoring period. Pertinent data from these sites are shown in Table 2. As shown in this table, although several of these sites shut down recently, the most recent three years of complete data at all of these sites showed the area to be attaining the standard, a conclusion that is supported by the data that are available, though not complete for 2007 to 2009. Table 2 includes sites that started operation only recently; these sites did not have a complete set of data for 2007-2009, but the available data from that period add support to the conclusion that the area is attaining the standard.

Table 2—PM2.5 Design Values for Saint Louis Area Sites With Incomplete Data in 2007 to 2009
State | County | Monitor | Average value 2007-2009 | Years of operation | Most recent complete design value: Value | Most recent complete design value: Years
IL | Madison | 17-119-0024 | 13.6 | 7/07-present | None |
MO | Jefferson | 29-099-0012 | 12.9 | 1/99-2/08 | 13.9 | 2005-2007
|  | 29-099-0019 | 11.1 | 3/08-present | None |
MO | Saint Charles | 29-183-1002 | 12.7 | 1/99-2/08 | 13.3 | 2005-2007
MO | Saint Louis | 29-189-0015 | 12.6 | 9/08-3/09 | 12.2 | 2006-2008
|  | 29-189-2003 | 12.1 | 1/98-6/09 | 12.3 | 2006-2008
|  | 29-189-3001 | 11.1 | 7/09-present | None |
| Saint Louis City | 29-510-0086 | 13.1 | 1/99-6/07 | 13.3 | 2004-2006
|  | 29-510-0087 | 12.8 | 11/99-4/09 | 13.6 | 2006-2008

Data handling conventions and computations necessary for determining whether areas have met the PM2.5 NAAQS, including requirements for data completeness, are listed in Appendix N of 40 CFR part 50. The use of less than complete data is subject to the approval of the EPA, which may consider factors such as monitoring site closures/moves, monitoring diligence and nearby concentrations in determining whether to use such data as set forth at 40 CFR part 50, Appendix N section 4.1(c). The monitors listed in Table 2 do not have complete data for the 2007-2009 monitoring period. However, the historical certified data recorded at the monitors that were discontinued during this period and recent certified data recorded at monitors that started operation during the period provide additional support for EPA's proposed determination that the Saint Louis area has attained the 1997 annual PM2.5 NAAQS. EPA is also approving the use of these data for consideration in this determination because it finds that Missouri and Illinois have exercised diligence in monitoring in the Saint Louis area, and have worked cooperatively with EPA in evaluating and seeking approval for monitor closures and moves. A discussion of each of the monitors with incomplete data for the 2007-2009 period is available in a technical support document, which is part of the docket of this proposed rulemaking.

The EPA also has considered additional monitoring data for 2010 that have been submitted by the states and are in EPA's AQS. Data for the entire 2010 calendar year are not yet certified, so EPA cannot consider these data yet as it evaluates the annual average concentrations. Nevertheless, EPA examined 2010 data available to date as an indication of whether the area continues to attain the standard. EPA believes that these data support the determination that the Saint Louis area continues to attain the PM2.5 annual NAAQS.

The EPA's review of these data (monitoring data from the 2007-2009 monitoring period and preliminary 2010 data available to date) supports EPA's determination that the Saint Louis PM2.5 nonattainment area has met and continues to meet the 1997 annual PM2.5 NAAQS. EPA is soliciting comment on the issues discussed in this document. These comments will be considered before EPA takes final action.

IV. What are the effects of this action?

If this proposed determination is made final, under the provisions of the PM2.5 Implementation Rule (40 CFR 51.1004(c)) the requirements for the Saint Louis PM2.5 nonattainment area to submit attainment demonstration, RACM (including RACT), a reasonable further progress plan, contingency measures, and other planning SIPs revisions related to attainment of the 1997 annual PM2.5 NAAQS shall be suspended for so long as the area continues to attain the 1997 annual PM2.5 NAAQS.

As discussed further, the proposed determination of attainment for the Saint Louis PM2.5 nonattainment area would, if finalized: (1) Suspend the States' obligation for Missouri and Illinois to submit the requirements listed above; (2) continue such suspension until such time, if any, that EPA subsequently determines that any monitor in the area has violated the 1997 annual PM2.5 NAAQS; and (3) be separate from, and not influence or otherwise affect, any future designation determination or requirements for the Saint Louis PM2.5 nonattainment areas based on the 2006 PM2.5 NAAQS or future PM2.5 NAAQ revision.

If this rulemaking is finalized and EPA subsequently determines, after notice-and-comment rulemaking in the Federal Register, that the area has violated the 1997 annual PM2.5 NAAQS, the basis for the suspension of the specific requirements, set forth at 40 CFR section 51.1004(c), would no longer exist, and the States of Missouri and Illinois would thereafter have to address the pertinent requirements.

This proposed approval is limited to a determination that the air quality data show that the Saint Louis PM2.5 nonattainment area has monitored attainment of the 1997 annual PM2.5 NAAQS; it is not equivalent to the redesignation of the Saint Louis PM2.5 nonattainment area to attainment of the 1997 annual PM2.5 NAAQS. This proposed action, if finalized, would not constitute a redesignation to attainment under section 107(d)(3) of the Clean Air Act (CAA) because the EPA would not have yet approved a maintenance plan for the area as required under CAA section 175A, nor a determination that the Saint Louis PM2.5 nonattainment area has met the other requirements for redesignation under the CAA. The designation status of the Missouri and Illinois portions of the Saint Louis PM2.5 nonattainment area will remain nonattainment for the 1997 annual PM2.5 NAAQS until such time as the EPA takes final rulemaking action to determine that such portions meet the CAA requirements for redesignation to attainment.

V. Statutory and Executive Order Reviews

This action proposes to make a determination based on air quality data and would, if finalized, result in the suspension of certain Federal requirements and would not impose any additional requirements. For that reason, this proposed action:

• Is not a “significant regulatory action” subject to review by the Office of Management and Budget under Executive Order 12866 (58 FR 51735, October 4, 1993);

• Does not impose an information collection burden under the provisions of the Paperwork Reduction Act .S.C. 3501 et seq.);

• Is certified as not having a significant economic impact on a substantial number of small entities under the Regulatory Flexibility Act S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Particulate matter.

Dated: February 9, 2011.
Susan Hedman,
Regional Administrator, Region 5.
Dated: February 22, 2011.
Karl Brooks,
Regional Administrator, Region 7.

[FR Doc. 2011-5048 Filed 3-4-11; 8:45 am]

BILLING CODE 6560-50-P